DEPARTMENT OF TRANSPORTATION

Maritime Administration

[Docket No. MARAD-2000-7204]

Information Collection Available for Public Comments and Recommendations

ACTION: Notice and request for comments.

SUMMARY: In accordance with the Paperwork Reduction Act of 1995, this notice announces the Maritime Administration's (MARAD) intentions to request approval for three years of an existing information collection entitled “Request for Transfer of Ownership, Registry, and Flag, or Charter, Lease, or Mortgage of U.S. Citizen Owned Documented Vessels,”

DATES: Comments should be submitted on or before June 12, 2000.

FOR FURTHER INFORMATION CONTACT: Raymond R. Barberesi, Director, Office of Sealift Support, MAR-630, Maritime Administration, 400 Seventh Street, SW, Room 7307, Washington, D.C. 20590, telephone number—202-366-2323 or 202-493-2180. Copies of this collection can also be obtained from that office.

SUPPLEMENTARY INFORMATION:

Title of Collection: “Request for Transfer of Ownership, Registry, and Flag, or Charter, Lease, or Mortgage of U.S. Citizen Owned Documented Vessels”.

Type of Request: Approval of an existing information collection.

OMB Control Number: 2133-0006.

Form Number: MA-29, MA-29A, MA-29B (Note: MA-29A is only used in cases of a National Emergency.)

Expiration Date of Approval: Three years from the date of approval.

Summary of Collection of Information: In accordance with Section 9 of the Shipping Act, 1916, as amended, the Maritime Administration is required to approve the sale, transfer, charter, lease, or mortgage of U.S. documented vessels to non-citizens, or the transfer of such vessels to foreign registry and flag, or the transfer of foreign flag vessels by their owners as required by various contractual requirements.

Need and Use of the Information: This information collection requires a vessel owner to submit an application for a prospective foreign transfer of a U.S.-flag vessel. This information will assist in the determination of whether the vessel proposed for transfer will initially require retention under the U.S.-flag statutory regulation. In such instances, the application is reviewed and cleared for approval by specialists within MARAD and the Department of Defense, U.S. TRANSCOM.

Description of Respondents: Respondents are vessel owners who have applied for foreign transfer of U.S.-flag vessels.

Annual Responses: 100 responses.

Annual Burden: 200 hours.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., EDT. Monday through Friday, except Federal Holidays. An electronic version of this document is available on the World Wide Web at http://dms.dot.gov.

By Order of the Maritime Administrator.
Dated: April 6, 2000.
Joel C. Richard.
Secretary.

[FR Doc. 00-9042 Filed 4-11-00; 8:45 am]

BILLING CODE 4910-81-P